DEPARTMENT OF JUSTICE

Antitrust Division

Notice Pursuant to the National Cooperative Research and Production Act of 1993—Cree, Inc. and Nanocrystal Lighting Corporation Under ATP Award No. 70NANB4H3037

Notice is hereby given that, on November 12, 2004, pursuant to section 6(a) of the National Cooperative Research and Production Act of 1993, 15 U.S.C 4301 et seq. (“the Act”), Cree, Inc. and Nanocrystal Lighting Corporation under ATP Award No. 70NANB4H3037 (“Joint Venture”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Cree, Inc., Durham, NC; and Nanocrystal Lighting Corporation, Briarcliff Manor, NY. The general area of the Joint Venture's planned activity is to cooperate in performing research in the field of high efficiency solid state lighting. The research will be partially funded by an award from the Advanced Technology Program, National Institute of Standards and Technology, U.S. Department of Commerce.

Dorothy B. Fountain,
Deputy Director of Operations, Antitrust Division.

[FR Doc. 05-1968 Filed 2-1-05; 8:45 am]

BILLING CODE 4410-11-M